FEDERAL DEPOSIT INSURANCE CORPORATION

Determination of Insufficient Assets to Satisfy Claims Against Financial Institution in Receivership

AGENCY: Federal Deposit Insurance Corporation (FDIC).

ACTION: Notice.

SUMMARY: The FDIC has determined that insufficient assets exist in the receivership of Franklin Bank, S.S.B., Houston, Texas, to make any distribution on general unsecured claims, and therefore such claims will recover nothing and have no value.

DATES: The FDIC made its determination on February 22, 2013.

FOR FURTHER INFORMATION CONTACT: If you have questions regarding this notice, you may contact an FDIC Claims Agent at (972) 761-8677. Written correspondence may also be mailed to FDIC as Receiver of Franklin Bank, S.S.B., Attention: Claims Agent, 1601 Bryan Street, Dallas, Texas 75201.

SUPPLEMENTARY INFORMATION: On November 7, 2008, Franklin Bank, S.S.B., Houston, Texas, (FIN #10021) was closed by the Texas Department of Savings and Mortgage Lending, and the Federal Deposit Insurance Corporation (“FDIC”) was appointed as its receiver (“Receiver”). In complying with its statutory duty to resolve the institution in the method that is least costly to the deposit insurance fund (see 12 U.S.C. 1823(c)(4)), the FDIC facilitated a transaction with Prosperity Bank, El Campo, Texas, to assume all deposits and a portion of the assets of the failed institution.

Section 11(d)(11)(A) of the FDI Act, 12 U.S.C. 1821(d)(11)(A), sets forth the order of priority for distribution of amounts realized from the liquidation or other resolution of an insured depository institution to pay claims. Under the statutory order of priority, administrative expenses and deposit liabilities must be paid in full before any distribution may be made to general unsecured creditors or any lower priority claims.

As of December 31, 2012, the maximum value of assets that could be available for distribution by the Receiver, together with maximum possible recoveries on professional liability claims against directors, officers, and other professionals, plus anticipated maximum recoveries from pending transactions was $714,420,467. As of the same date, administrative expenses and depositor liabilities equaled $1,031,660,492, exceeding available assets and potential recoveries by $317,240,025. Accordingly, the FDIC has determined that insufficient assets exist to make any distribution on general unsecured creditor claims (and any lower priority claims) and therefore all such claims, asserted or unasserted, will recover nothing and have no value.

Dated: February 22, 2013.
Federal Deposit Insurance Corporation.
Robert E. Feldman,
Executive Secretary.

[FR Doc. 2013-04553 Filed 2-27-13; 8:45 am]

BILLING CODE 6714-01-P